NUCLEAR REGULATORY COMMISSION

Office of New Reactors; Notice of Availability of the Final Interim Staff Guidance DC/COL-ISG-01 on Seismic Issues Associated With High Frequency Ground Motion

AGENCY: Nuclear Regulatory Commission (NRC).

ACTION: Notice of availability.

SUMMARY: The NRC is issuing its Final Interim Staff Guidance (ISG) DC/COL-ISG-01. This DC/COL-ISG provides guidance on Seismic Issues associated with High Frequency (HF) Ground Motion for Design Certification (DC) and Combined License (COL) applicants. Moreover, this COL/DC-ISG describes how the staff will review seismic issues associated with HF ground motion as addressed in DC applications and COL applications.

Disposition: The draft form of the ISG was published for public comments on August 16, 2007 (ML072200566). The staff received industry comments dated September 12, 2007. This revised version incorporated changes resulting from the disposition of the industry comments and as a result of discussions at the December 20, 2007 and the February 13, 2008 meetings (ML080560592).

The NRC staff issues DC/COL-ISGs to facilitate timely implementation of the current staff guidance and to facilitate activities associated with review of applications for DC and COLs by the Office of New Reactors. The NRC staff will also incorporate the approved DC/COL-ISGs into the next revision of review guidance documents used by the Office of New Reactors.

ADDRESSES: The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room (PDR) reference staff at 1-800-397-4209, 301-415-4737, or by e-mail at pdr@nrc.gov.

FOR FURTHER INFORMATION CONTACT: Ms. Rebecca L. Karas, Branch Chief, Geoscience and Geotechnical Engineering Branch 1, Division of Site and Environmental Reviews, Office of New Reactors, U.S. Nuclear Regulatory Commission, Washington, DC 20555-0001; telephone 301-415-7533 or e-mail at rebecca.karas@nrc.gov.

Mr. Sujit K. Samaddar, Branch Chief, Structural Engineering Branch 2, Division of Engineering, Office of New Reactors, U.S. Nuclear Regulatory Commission, Washington, DC 20555-0001; telephone 301-415-3309 or e-mail at sujit.samaddar@nrc.gov.

SUPPLEMENTARY INFORMATION: The agency posts its issued staff guidance in the agency external Web page (http://www.nrc.gov/reading-rm/doc-collections/isg/) (ML081400293).

Dated at Rockville, Maryland, this 19th day of May 2008.
For the Nuclear Regulatory Commission,
William D. Reckley,
Chief, Rulemaking, Guidance and Advanced Reactor Branch, Division of New Reactor Licensing, Office of New Reactors.

[FR Doc. E8-11786 Filed 5-23-08; 8:45 am]

BILLING CODE 7590-01-P